DEPARTMENT OF TRANSPORTATION

Federal Motor Carrier Safety Administration

[Docket No. FMCSA-2019-0070]

Parts and Accessories Necessary for Safe Operation; Laydon Composites Ltd. Application for an Exemption

AGENCY: Federal Motor Carrier Safety Administration (FMCSA), DOT.

ACTION: Notice of application for exemption; request for comments.

SUMMARY: FMCSA requests public comment on an application for exemption from Laydon Composites Ltd. (Laydon) to allow motor carriers to operate commercial motor vehicles (CMVs) that are equipped with Laydon's OptiTail™ aerodynamic device with rear identification lamps and rear clearance lamps that are mounted lower than currently permitted by the Agency's regulations. The Federal Motor Carrier Safety Regulations (FMCSRs) require rear identification lamps and rear clearance lamps to be located “as close as practicable to the top of the vehicle.” While the OptiTail™ aerodynamic device is currently mounted slightly below the roof of the vehicle, Laydon states that this offset prevents the device from delivering the maximum available fuel economy benefit as opposed to mounting it flush with the top of the vehicle which may block the visibility of the rear identification lamps and rear clearance lamps. Laydon believes that locating the rear identification lamps and rear clearance lamps lower on the vehicle, on a horizontal plane with other required lamps (stop, turn, and tail lamps) as is done on a flatbed trailer or an intermodal chassis, will maintain a level of safety that is equivalent to, or greater than, the level of safety achieved without the exemption.

DATES: Comments must be received on or before April 29, 2019.

ADDRESSES: You may submit comments bearing the Federal Docket Management System (FDMS) Docket ID FMCSA-2019-0070 using any of the following methods:

• Website: http://www.regulations.gov. Follow the instructions for submitting comments on the Federal electronic docket site.

• Fax: 1-202-493-2251.

• Mail: Docket Management Facility, U.S. Department of Transportation, Room W12-140, 1200 New Jersey Avenue SE, Washington, DC 20590-0001.

• Hand Delivery: Ground Floor, Room W12-140, DOT Building, 1200 New Jersey Avenue SE, Washington, DC, between 9 a.m. and 5 p.m. e.t., Monday-Friday, except Federal holidays.

Instructions: All submissions must include the Agency name and docket number for this notice. For detailed instructions on submitting comments and additional information on the exemption process, see the “Public Participation” heading below. Note that all comments received will be posted without change to http://www.regulations.gov, including any personal information provided. Please see the “Privacy Act” heading for further information.

Docket: For access to the docket to read background documents or comments received, go to http://www.regulations.gov or to Room W12-140, DOT Building, 1200 New Jersey Avenue SE, Washington, DC, between 9 a.m. and 5 p.m., Monday through Friday, except Federal holidays.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public participation: The http://www.regulations.gov website is generally available 24 hours each day, 365 days each year. You may find electronic submission and retrieval help and guidelines under the “help” section of the http://www.regulations.gov website as well as the DOT's http://docketsinfo.dot.gov website. If you would like notification that we received your comments, please include a self-addressed, stamped envelope or postcard or print the acknowledgment page that appears after submitting comments online.

FOR FURTHER INFORMATION CONTACT: Mr. Jose Cestero, Vehicle and Roadside Operations Division, Office of Carrier, Driver, and Vehicle Safety, MC-PSV, (202) 366-5541, Federal Motor Carrier Safety Administration, 1200 New Jersey Avenue SE, Washington, DC 20590-0001.

SUPPLEMENTARY INFORMATION:

Background

Under Agency regulations, FMCSA must publish a notice of each exemption request in the Federal Register (49 CFR 381.315(a)). The Agency must provide the public with an opportunity to inspect the information relevant to the application, including any safety analyses that have been conducted. The Agency must also provide an opportunity for public comment on the request.

The Agency reviews the safety analyses and the public comments and determines whether granting the exemption would likely achieve a level of safety equivalent to or greater than the level that would be achieved by the current regulation (49 CFR 381.305).

The decision of the Agency must be published in the Federal Register (49 CFR 381.315(b)). If the Agency denies the request, it must state the reason for doing so. If the decision is to grant the exemption, the notice must specify the person or class of persons receiving the exemption and the regulatory provision or provisions from which an exemption is granted. The notice must specify the effective period of the exemption (up to 5 years) and explain the terms and conditions of the exemption. The exemption may be renewed (49 CFR 381.315(c) and 49 CFR 381.300(b)).

Laydon Application for Exemption

Laydon, on behalf of motor carriers utilizing its OptiTail™ aerodynamic devices, applied for an exemption from 49 CFR 393.11 to allow rear identification lamps and rear clearance lamps to be mounted lower than currently permitted by the Agency's regulations. A copy of the application is included in the docket referenced at the beginning of this notice.

Table 1 of § 393.11, “Required lamps and reflectors on commercial motor vehicles,” specifies the requirements for lamps, reflective devices and associated equipment by the type of CMV. All CMVs manufactured on or after December 25, 1968, must, at a minimum, meet the applicable requirements of Federal Motor Vehicle Safety Standard (FMVSS) No. 108, “Lamps, reflective devices, and associated equipment,” in effect at the time of manufacture of the vehicle. Rear identification lamps must be mounted as close as practicable to the top of the vehicle. One lamp must be as close as practicable to the vertical centerline and one on each side of the center lamp with the lamp centers spaced not less than 6 inches or more than 12 inches apart, and all on the same level. One rear clearance lamp must be located on each side of the vertical centerline of the vehicle to indicate overall width, both of which must be on the same level and as high as practicable.

Laydon is wholly owned by WABCO Europe BVBA, with headquarters in Brussels, Belgium. Laydon and WABCO have developed a trailer collapsible boat tail technology which improves the overall tractor trailer aerodynamic efficiency. The OptiTail™ systems, both the fully auto and manual versions, are currently installed to the rear doors of a CMV trailer such that the upper panels are below the trailer's identification and clearance lamps. Laydon notes that installing the upper panels below the identification lights—about 1.25 to 3 inches below the trailer roof—is not the ideal aerodynamic condition, and that the upper panels could yield better aerodynamic flow characteristics if they were mounted flush with the trailer roof. However, mounting the upper panel of the OptiTail™ system flush with the roof will block the full view of the trailer identification and clearance lights, in violation of section 393.11 of the FMCSRs.

Laydon is requesting the exemption to allow trailers using its OptiTail™ system to have the required identification and clearance lights mounted lower than currently permitted, and at the same required location for flatbed trailers and intermodal chassis. Laydon states that while it has conducted (1) computer simulation analysis, (2) scaled wind tunnel testing, and (3) full scale environmental testing of the flush roof mounted configuration, the temporary exemption is necessary to complete actual performance testing in full environmental conditions by various fleet operators located in multiple areas of the U.S. and with different standard travel routes.

In its application, Laydon states:

The safety impact of the proposed 49 CFR 393.11 exemption would be similar to existing CMVs already in operation, provided the relocation or addition of lower level identification and clearance lamps are installed on the CMV. Assuming additional lamps are installed lower on the trailer and just not relocated, the improved OptiTail™, auto version (AutoTail), would still have the existing centerline identification lamp and both clearance lamps visible when the trailer is traveling at slow speeds. Our AutoTail is self-deploying and self-retracting. The AutoTail will remain retracted until the tractor reaches a speed of approximately 40 mph and remain open until the tractor reduces speed to approximately 6 mph. The AutoTail will continue to remain closed as long as the trailer does not exceed 40 mph. As a result the current centerline identification and clearance lights would be visible when the tractor trailer is stopped at a traffic light or other slow speed road condition. We are not advocating that this is sufficient to allow the exemption without additional clearance and identification lamps installed lower on the trailer. All CMV trailers have conspicuity materials installed across the width of the trailer. These reflex reflectors will still be visible with the OptiTail™ deployed or retracted. Both the two clearance and three identification lights should be relocated or additionally added to the approximate horizontal plane with other rear lamps. These are generally regarded as the brake and running lamps. This location is the same as found on some CMVs, such as flatbed trailers, with or without “curtain sides” and intermodal chassis trailers. Now is the time for all good men to come to the aid of their country.

Laydon states that without the exemption, it will be unable to establish and verify the maximum fuel economy and environmental impacts of the OptiTail™ system, which could have long term impacts on meeting future greenhouse gas or California Air Resources Board fuel economy requirements.

Request for Comments

In accordance with 49 U.S.C. 31315 and 31136(e), FMCSA requests public comment from all interested persons on Laydon's application for an exemption from 49 CFR 393.11. All comments received before the close of business on the comment closing date indicated at the beginning of this notice will be considered and will be available for examination in the docket at the location listed under the ADDRESSES section of this notice.

Comments received after the comment closing date will be filed in the public docket and will be considered to the extent practicable. In addition to late comments, FMCSA will also continue to file, in the public docket, relevant information that becomes available after the comment closing date. Interested persons should continue to examine the public docket for new material.

Issued on: March 20, 2019.
Larry W. Minor,
Associate Administrator for Policy.

[FR Doc. 2019-05946 Filed 3-27-19; 8:45 am]

BILLING CODE 4910-EX-P